DEPARTMENT OF COMMERCE

International Trade Administration

[A-570-956]

Seamless Carbon and Alloy Steel Standard, Line, and Pressure Pipe From the People's Republic of China: Rescission of Antidumping Duty Administrative Review; 2011-2012

AGENCY: Import Administration, International Trade Administration, Department of Commerce.

SUMMARY: In response to a request from an interested party, United States Steel Corporation (“U.S. Steel”), the Department of Commerce (“the Department”) initiated an administrative review of the antidumping duty order on seamless carbon and alloy steel standard, line, and pressure pipe from the People's Republic of China. The period of review is November 1, 2011, through October 31, 2012. Based on the timely withdrawal of the request for review submitted by U.S. Steel, we are now rescinding this administrative review.

DATES: Effective Date: June 5, 2013.

FOR FURTHER INFORMATION CONTACT: Magd Zalok or Charles Riggle, AD/CVD Operations, Office 4, Import Administration, International Trade Administration, U.S. Department of Commerce, 14th Street and Constitution Avenue NW., Washington, DC 20230; telephone: (202) 482-4162 or (202) 482-0650, respectively.

SUPPLEMENTARY INFORMATION:

Background

On December 31, 2012, based on a timely request for review by U.S. Steel, the Department published in the Federal Register a notice of initiation of an administrative review of the antidumping duty order on seamless carbon and alloy steel standard, line, and pressure pipe from the People's Republic of China covering the period November 1, 2011, through October 31, 2012. See Initiation of Antidumping and Countervailing Duty Administrative Reviews and Request for Revocation in Part, 77 FR 77017 (December 31, 2012) (“Initiation Notice”). The review covers 203 companies. See Initiation Notice. No other party requested a review.

On March 27, 2013, U.S. Steel withdrew its request for an administrative review in its entirety.

Rescission of Review

Pursuant to 19 CFR 351.213(d)(1), the Department will rescind an administrative review if the party that requested the review withdraws its request within 90 days of the publication of the notice of initiation of the requested review. In this case, U.S. Steel withdrew its request within the 90-day deadline and no other party requested an administrative review of the antidumping duty order. Therefore, we are rescinding the administrative review of seamless carbon and alloy steel standard, line, and pressure pipe from the People's Republic of China for the period November 1, 2011, through October 31, 2012.

Assessment

The Department will instruct U.S. Customs and Border Protection (“CBP”) to assess antidumping duties on all appropriate entries. Antidumping duties shall be assessed at rates equal to the cash deposit or bonding rate of estimated antidumping duties required at the time of entry, or withdrawal from warehouse, for consumption, in accordance with 19 CFR 351.212(c)(1)(i). The Department intends to issue appropriate assessment instructions directly to CBP 15 days after publication of this notice.

Notifications

This notice serves as a final reminder to importers for whom this review is being rescinded of their responsibility under 19 CFR 351.402(f)(2) to file a certificate regarding the reimbursement of antidumping duties prior to liquidation of the relevant entries during this review period. Failure to comply with this requirement could result in the Secretary's presumption that reimbursement of the antidumping duties occurred and the subsequent assessment of double antidumping duties.

This notice also serves as a reminder to parties subject to administrative protective order (“APO”) of their responsibility concerning the return or destruction of proprietary information disclosed under APO in accordance with 19 CFR 351.305, which continues to govern business proprietary information in this segment of the proceeding. Timely written notification of the return/destruction of APO materials or conversion to judicial protective order is hereby requested. Failure to comply with the regulations and terms of an APO is a violation which is subject to sanction.

This notice is issued and published in accordance with section 777(i)(1) of the Tariff Act of 1930, as amended, and 19 CFR 351.213(d)(4).

Dated: May 30, 2013.
Christian Marsh,
Deputy Assistant Secretary for Antidumping and Countervailing Duty Operations.

[FR Doc. 2013-13321 Filed 6-4-13; 8:45 am]

BILLING CODE 3510-DS-P